DEPARTMENT OF AGRICULTURE

Forest Service

36 CFR Part 220

[Docket No.

RIN 0596-AD31

National Environmental Policy Act Compliance

AGENCY: Forest Service, USDA.

ACTION: Advance notice of proposed rulemaking; request for comment.

SUMMARY: The Forest Service is proposing to revise its National Environmental Policy Act (NEPA) procedures with the goal of increasing efficiency of environmental analysis. This will help the Forest Service implement its core mission by increasing the health and productivity of our Nation's forests for the benefit of all Americans, and in turn foster productive and sustainable use of National Forest System lands. The Agency's NEPA procedures are a key component of its overall environmental analysis and decision-making process. The Agency is seeking comments from the public on ways it can achieve the goals of increased efficiency of environmental analysis.

DATES: Comments must be received in writing by February 2, 2018.

ADDRESSES: Please submit comments via one of the following methods:

1. Public participation portal (preferred): https://cara.ecosystem-management.org/Public/CommentInput?project=ORMS-1797.

2. Mail: NEPA Services Group, c/o Amy Barker; USDA Forest Service, Geospatial Technology and Applications Center, 2222 West 2300 South, Salt Lake City, UT 84119.

3. Email: nepa-procedures- revision@fs.fed.us.

All comments, including names and addresses when provided, are placed in the record and are available for public inspection and copying. The public may inspect comments received online via the public reading room at https://cara.ecosystem-management.org/Public/ReadingRoom?project=ORMS-1797, or at U.S. Forest Service, Ecosystem Management Coordination, 201 14th St. SW, 2 Central, Washington, DC 20024. Visitors are encouraged to call ahead to (202) 205-1475 to facilitate entry to the building.

FOR FURTHER INFORMATION CONTACT: Jim Smalls; Assistant Director, Ecosystem Management Coordination; 202-205-1475. Individuals who use telecommunication devices for the deaf (TDD) may call the Federal Information Relay Service (FIRS) at 1-800-877-8339 between 8:00 a.m. and 8:00 p.m., Eastern Standard Time, Monday through Friday.

SUPPLEMENTARY INFORMATION:

Background

The Forest Service is proposing to revise its NEPA procedures (including its regulations at 36 CFR part 220, Forest Service Manual 1950, and Forest Service Handbook 1909.15) with the goal of increasing efficiency of environmental analysis. The Agency will continue to hold true to its commitment to deliver scientifically based, high-quality analysis to decision makers that honors its environmental stewardship responsibilities while maintaining robust public particiption. These values are at the core of the Forest Service mission.

Reforming the Forest Service's NEPA procedures is needed for a variety of reasons. An increasing percentage of the Agency's resources are spent each year to provide the necessary resources for wildfire suppression, resulting in fewer resources available for other management activities such as restoration. In 1995, fire made up 16 percent of the Forest Service's annual appropriated budget. In 2017, more than 50 percent of the Forest Service's annual budget will be dedicated to wildfire. Along with this shift in resources, there has also been a corresponding shift in staff, with a 39 percent reduction in all non-fire personnel since 1995. Additionally, the Agency has a backlog of more than 6,000 special use permits awaiting completion, and over 80 million acres of National Forest System land are in need of restoration to reduce the risk of wildfire, insect epidemics, and forest diseases.

Increasing efficiency of environmental analysis will enable the Agency to complete more projects needed to increase the health and productivity of our national forests and grasslands. The Agency's goal is to complete project decision making in a timelier manner, to improve or eliminate inefficient processes and steps, and where appropriate increase the scale of analysis and the amount of activities authorized in a single analysis and decision. Improving the efficiency of environmental analysis and decision making will enable the agency to ensure lands and watersheds are sustainable, healthy, and productive; mitigate wildfire risk; and contribute to the economic health of rural communities through use and access opportunities.

Agency NEPA Procedures

Each Federal agency is required to develop NEPA procedures that supplement the Council on Environmental Quality (CEQ) regulations and reflect the agency's unique mandate and mission. The CEQ encourages agencies to periodically review their NEPA procedures. The Forest Service's NEPA procedures were last reviewed in 2008 when the Agency moved a subset of its NEPA procedures from the Forest Service Manual and Handbook to the Code of Federal Regulations. However, the Agency's NEPA procedures still reflect in part the policies and practices established by the Agency's 1992 NEPA Manual and Handbook. The proposed revision of the Forest Service's NEPA procedures will be developed in consultation with CEQ.

Request for Comment

The Agency is seeking public comment on the following:

• Processes and analysis requirements that can be modified, reduced, or eliminated in order to reduce time and cost while maintaining science-based, high-quality analysis; public involvement; and honoring agency stewardship responsibilities.

• Approaches to landscape-scale analysis and decision making under NEPA that facilitate restoration of National Forest System lands.

• Classes of actions that are unlikely, either individually or cumulatively, to have significant impacts and therefore should be categorically excluded from NEPA's environmental assessment and environmental impact statement requirements, such as integrated restoration projects; special use authorizations; and activities to maintain and manage Agency sites (including recreation sites), facilities, and associated infrastructure.

• Ways the Agency might expand and enhance coordination of environmental review and authorization decisions with other Federal agencies, as well as State, Tribal, or local environmental reviews.

Dated: December 20, 2017.
Tony Tooke,
Chief, USDA, Forest Service.

[FR Doc. 2017-28298 Filed 1-2-18; 8:45 am]

BILLING CODE 3411-15-P